DEPARTMENT OF ENERGY

Federal Energy Regulatory Commission

Combined Notice of Filings #1

Take notice that the Commission received the following electric corporate filings:

Docket Numbers: EC24-110-000.

Applicants: Daybreak Solar, LLC.

Description: Application for Authorization Under Section 203 of the Federal Power Act of Daybreak Solar, LLC.

Filed Date: 8/9/24.

Accession Number: 20240809-5190.

Comment Date: 5 p.m. ET 8/30/24.

Take notice that the Commission received the following exempt wholesale generator filings:

Docket Numbers: EG24-255-000.

Applicants: Harquahala Sun 1, LLC.

Description: Harquahala Sun 1, LLC submits Notice of Self-Certification of Exempt Wholesale Generator Status.

Filed Date: 8/13/24.

Accession Number: 20240813-5088.

Comment Date: 5 p.m. ET 9/3/24.

Docket Numbers: EG24-256-000.

Applicants: Harquahala Sun 2, LLC.

Description: Harquahala Sun 2, LLC submits Notice of Self-Certification of Exempt Wholesale Generator Status.

Filed Date: 8/13/24.

Accession Number: 20240813-5089.

Comment Date: 5 p.m. ET 9/3/24.

Take notice that the Commission received the following electric rate filings:

Docket Numbers: ER24-2757-000.

Applicants: Occidental Power Marketing, L.P.

Description: Compliance filing: Supplement to Notice of Change in Status and Market-Based Rate Tariff to be effective 4/30/2022.

Filed Date: 8/12/24.

Accession Number: 20240812-5152.

Comment Date: 5 p.m. ET 9/3/24.

Docket Numbers: ER24-2758-000.

Applicants: Occidental Power Services, Inc.

Description: Compliance filing: Supplement to Notice of Change in Status and Market-Based Rate Tariff to be effective 4/30/2022.

Filed Date: 8/12/24.

Accession Number: 20240812-5153.

Comment Date: 5 p.m. ET 9/3/24.

Docket Numbers: ER24-2759-000.

Applicants: Occidental Chemical Corporation.

Description: Compliance filing: Supplement to Notice of Change in Status and Market-Based Rate Tariff to be effective 4/30/2022.

Filed Date: 8/12/24.

Accession Number: 20240812-5157.

Comment Date: 5 p.m. ET 9/3/24.

Docket Numbers: ER24-2760-000.

Applicants: OTCF, LLC.

Description: Compliance filing: Supplement to Notice of Change in Status and Market-Based Rate Tariff to be effective 4/30/2022.

Filed Date: 8/12/24.

Accession Number: 20240812-5158.

Comment Date: 5 p.m. ET 9/3/24.

Docket Numbers: ER24-2761-000.

Applicants: Southwest Power Pool, Inc.

Description: § 205(d) Rate Filing: 1790R1 Occidental Chemical Corporation LGIA Cancellation to be effective 11/5/2024.

Filed Date: 8/13/24.

Accession Number: 20240813-5021.

Comment Date: 5 p.m. ET 9/3/24.

Docket Numbers: ER24-2762-000.

Applicants: Midcontinent Independent System Operator, Inc., American Transmission Company LLC.

Description: § 205(d) Rate Filing: Midcontinent Independent System Operator, Inc. submits tariff filing per 35.13(a)(2)(iii: 2024-08-13_SA 4333 ATC-Degas ESA to be effective 8/14/2024.

Filed Date: 8/13/24.

Accession Number: 20240813-5049.

Comment Date: 5 p.m. ET 9/3/24.

Docket Numbers: ER24-2763-000.

Applicants: PacifiCorp.

Description: § 205(d) Rate Filing: Construction Agreement WYOPO (RS No. 788) to be effective 10/13/2024.

Filed Date: 8/13/24.

Accession Number: 20240813-5056.

Comment Date: 5 p.m. ET 9/3/24.

Docket Numbers: ER24-2764-000.

Applicants: Midcontinent Independent System Operator, Inc.

Description: § 205(d) Rate Filing: 2024-08-13_SA 4324 DPC-North Hills Wind Project GIA (J1769) to be effective 8/6/2024.

Filed Date: 8/13/24.

Accession Number: 20240813-5074.

Comment Date: 5 p.m. ET 9/3/24.

Docket Numbers: ER24-2765-000.

Applicants: Consolidated Edison Company of New York, Inc., New York Independent System Operator, Inc.

Description: § 205(d) Rate Filing: Consolidated Edison Company of New York, Inc. submits tariff filing per 35.13(a)(2)(iii: NYISO-Con Edison Joint 205: Amnd TPIA for Segment B Dover PAR, SA 2734 (CEII) to be effective 8/2/2024.

Filed Date: 8/13/24.

Accession Number: 20240813-5080.

Comment Date: 5 p.m. ET 9/3/24.

Docket Numbers: ER24-2766-000.

Applicants: ISO New England Inc., Fitchburg Gas and Electric Light Company.

Description: § 205(d) Rate Filing: ISO New England Inc. submits tariff filing per 35.13(a)(2)(iii: FG&E; Request for Updated Depreciation Rates to be effective 7/1/2024.

Filed Date: 8/13/24.

Accession Number: 20240813-5106.

Comment Date: 5 p.m. ET 9/3/24.

Docket Numbers: ER24-2767-000.

Applicants: Pontotoc Wind, LLC.

Description: Baseline eTariff Filing: Application for Market-Based Rate Authorization, Request for Related Waivers to be effective 10/13/2024.

Filed Date: 8/13/24.

Accession Number: 20240813-5125.

Comment Date: 5 p.m. ET 9/3/24.

Docket Numbers: ER24-2768-000.

Applicants: Southwest Power Pool, Inc.

Description: § 205(d) Rate Filing: 4305 WAPA/City of Watertown, SD Interconnection Agreement to be effective 8/13/2024.

Filed Date: 8/13/24.

Accession Number: 20240813-5135.

Comment Date: 5 p.m. ET 9/3/24.

Take notice that the Commission received the following public utility holding company filings:

Docket Numbers: PH24-14-000.

Applicants: LS Power Development, LLC.

Description: LS Power Development, LLC submits FERC 65-B Notice of Change in Fact to Waiver Notification.

Filed Date: 8/9/24.

Accession Number: 20240809-5188.

Comment Date: 5 p.m. ET 8/30/24.

Docket Numbers: TX24-4-000.

Applicants: Elisabeth Solar, LLC.

Description: Application for Order Directing Transmission Service and Interconnection of Facilities of Elisabeth Solar, LLC.

Filed Date: 8/12/24.

Accession Number: 20240812-5179.

Comment Date: 5 p.m. ET 9/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 13, 2024.
Debbie-Anne A. Reese,
Acting Secretary.

[FR Doc. 2024-18523 Filed 8-16-24; 8:45 am]

BILLING CODE 6717-01-P